DEPARTMENT OF HOUSING AND URBAN DEVELOPMENT

[Docket No. FR-4837-D-42]

Delegation of Authority—Apportionments/Reapportionment Schedules and Advice of Allotments Revocation of Any Prior Delegations of Authority

AGENCY: Office of the Secretary, HUD.

ACTION: Notice of delegation of authority. Notice of revocation of any prior delegation of authority.

SUMMARY: On July 30, 1997, HUD transferred the Office of Budget and its functions form the Office of Administration to the Office of the Chief Financial Officer. In implementing the transfer of budget functions, on August 21, 1997, HUD's then Deputy Secretary delegated the authority to sign Apportionments/Reapportionment Schedules (SF-132), and Advice of Allotments (HUD-158) to the Director of Budget. As a result of the transfer of budget functions to the Office of the CFO, the Director of Budget is now the Assistant Chief Financial Officer (ACFO) for Budget. The ACFO for Budget has the responsibility for the Department-wide budget, including signature authority for apportionments/reapportionments for HUD. The budget office prepares and submits the Department's requested apportionments to the Office of Management and Budget (OMB) and after receiving OMB approval, provides allocations of funds to Assistant Secretaries and other officials as appropriate. Under this delegation, the Secretary is delegating the authority to sign Apportionments/Reapportionments Schedules and Advice of Allotments to the Chief Financial Officer. This delegation will more clearly define the existing chain of command and more accurately reflect the Department's current organizational responsibilities for budget functions.

EFFECTIVE DATE: April 1, 2003.

FOR FURTHER INFORMATION CONTACT: Roger L. Williams; Office of the Chief Financial Officer, Management Staff; 451 7th St. Southwest Room 3126, Washington, DC 20410; 202-708-0313. This is not a toll-free number. This number may be accessed via TTY by calling the Federal Information Relay Service at 1-800-877-8339.

Accordingly, the Secretary delegates as follows:

Section A. Authority Delegated

The Chief Financial Officer is hereby delegated the authority to sign Apportionments/Reapportionment Schedules and Advice of Allotments.

Section B. Delegation Revoked

This document revokes the Deputy Secretary's August 21, 1997 delegation. All other previous delegations or re-delegations inconsistent with this delegation are hereby revoked.

Section C. Authority to Re-Delegate

The Chief Financial Officer is authorized to re-delegate to qualified employees of the Department any of the authority delegated under Section A.

Authority: Sec. 7(d) of the Department of HUD Act (42 U.S.C. 3535(d)).

Dated: April 1, 2003.
Mel Martinez,
Secretary of Housing and Urban Development.

[FR Doc. 03-13744 Filed 6-2-03; 8:45 am]

BILLING CODE 4210-32-M